DEPARTMENT OF THE INTERIOR

National Park Service

National Register of Historic Places; Notification of Pending Nominations

Nominations for the following properties being considered for listing in the National Register were received by the National Park Service before June 16, 2000. Pursuant to § 60.13 of 36 CFR Part 60 written comments concerning the significance of these properties under the National Register criteria for evaluation may be forwarded to the National Register, National Park Service, 1849 C St. NW, NC400, Washington, DC 20240. Written comments should be submitted by July 11, 2000.

Carol D. Shull,
Keeper of the National Register.

ARKANSAS

Pulaski County

Compton—Wood House, 1305 Spring St., Little Rock, 00000781

COLORADO

El Paso County

Calhan Paint Mines Archeological District, Approx. 0.5 mi. SE of jct. S. Calhan Rd. and Paint Mine Rd., Calhan, 00000783

Jefferson County

Van Voorhis House, 7803 Ralston Rd., Arvada, 00000784

Lake County

Derry Mining Site Camp, W of US 24, Leadville, 00000782

FLORIDA

Alachua County

City of Alachua Downtown Historic District, Roughly bounded by NW 150th Ave., NW 145th Terrace, NW 143rd Place and NW 138th Terrace, Alachua, 00000787

Hillsborough County

Dickman, A.P., House, 120 Dickman Dr., SE, Ruskin, 00000786

Palm Beach County

Flamingo Park Historic Residential District, Roughly bounded by Park Place, Parker Ave., Beleveder Rd., and Florida Ave., West Palm Beach, 00000785

GEORGIA

Troup County

East Main Street—Johnson Street Historic District, Centered on East Main and Johnson Sts., Hogansville, 00000788

IDAHO

Idaho County

Gold Point Mill, Forest Service Rd. 222, Elk City, 00000792

KANSAS

Dickinson County

Litts—Dieter House, 702 North Cedar, Abilene, 00000789

Mead—Rogers House, 813 NW 3rd St., Abilene, 00000790

Ford County

Atchison, Topeka and Santa Fe Railway Depot, E. Wyatt Earp Blvd., Dodge City, 00000791

MASSACHUSETTS

Hampshire County

Westside Historic District, Baker and Snell Sts., Northampton Rd., and Hazel Ave., Amherst, 00000793

MISSOURI

St. Louis County

Block Unit #1 Historic District, 4100-4191 Enright Ave., St. Louis, 00000794

NEW JERSEY

Bergen County

Hess, Harold, Lustron House, (Lustrons in New Jersey MPS) 421 Durie Ave., Closter Borough, 00000796

Wittmer, William A., Lustron House, (Lustrons in New Jersey MPS) 19 Dubois Ave., Alpine Borough, 00000797

Camden County

Sears, Roebuck and Company Retail Department Store—Camden, 1300 Admiral Wilson Blvd., Camden City, 00000795

OHIO

Butler County

Dixon—Globe Opera House—Robinson-Schwenn Building, 221 High St., Hamilton, 00000799

Cuyahoga County

Olmsted Falls Historic District, Roughly bounded by Bagley Rd., Brookside Dr., Rocky River, Nobottom Rd., Olmsted Falls, 00000798

Stark County

Elson—Magnolia Flour Mill, 261 N. Main St., Magnolia, 00000800

OREGON

Hood River County

Colby, Ernest S. and Clara C., House, 1219 Columbia Ave., Hood River, 00000804

Jackson County

Eden Valley Orchard, 2488 Voorhies Rd,, Medford, 00000802

Multnomah County

Oregon State Bank Building, (Hollywood's Historic Commercial District in Portland, Oregon MPS) 4200 NE Sandy Blvd., Portland, 00000801

Wallowa County

Wallowa County Courthouse, 101 S. River St., Enterprise, 00000805

Yamhill County

Parrish, William Albert and Anna May Bristow, Farmstead, Address Restricted, Newberg, 00000803

TENNESSEE

Humphreys County

Fort Hill and Butterfield, Archibald D., House, (Civil War Historic and Historic Archeological Resources in Tennessee MPS), 201 Fort Hill Dr., Waverly, 00000806

Johnson County

Wright, A.J., Farm, 297 A.J. Wright Rd., Shady Valley, 00000808

Maury County

St. Mark United Primitive Baptist Church, (Rural African-American Churches in Tennessee MPS) Maury Hill St., Spring Hill, 00000811

Shelby County

First Colored Baptist Church, 682 S. Lauderdale St., Memphis, 00000807

Sullivan County

Pierce Chapel AME Church Cemetery, (Rural African-American Churches in Tennessee MPS) Seaver Rd. at Horse Creek Rd., Kingsport, 00000809

WISCONSIN

Oconto County

Krause, Daniel E., Stone Barn, NE corner of Cty. Trunk Hwy S and Schwartz Rd., Chase, 00000810

A request for REMOVAL has been made for the following resource:

OHIO

Portage County

Kent Jail, 124 W. Day St. Kent, 78002173

[FR Doc. 00-16007 Filed 6-23-00; 8:45 am]

BILLING CODE 4310-70-P